DEPARTMENT OF HEALTH AND HUMAN SERVICES

Administration for Children and Families

Submission for OMB Review; Generic Clearance for Reviewer Recruitment Forms

AGENCY: Office of Planning, Research, and Evaluation, Administration for Children and Families, U.S. Department of Health and Human Services.

ACTION: Request for public comments.

SUMMARY: The Administration for Children and Families (ACF) proposes to extend approval of the existing overarching generic clearance for Reviewer Recruitment Forms (Office of Management and Budget (OMB) #0970-0477). No changes are proposed to the terms of the overarching generic.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing opreinfocollection@acf.hhs.gov. Identify all requests by the title of the information collection.

SUPPLEMENTARY INFORMATION:

Description: The overarching generic clearance for Reviewer Recruitment Forms provides ACF with the opportunity to collect from potential reviewers, such as those who review grant proposals, conference proposals, research/evaluation plans, study designs, report drafts, and/or other ACF materials.

ACF developed this generic because each program office and within ACF has slightly different needs for information about reviewer applicants based on the specific activities for which reviewers are needed, yet the individual forms submitted under the generic will serve an identical function. The overarching purpose is to select qualified reviewers for ACF review processes and activities based on professional qualifications. Information will be collection through questions on forms and documents provided by candidates. Example documents include writing samples and curriculum vitae and/or resume. ACF uses the information collected to recruit well-qualified reviewers with relevant background experience and knowledge.

The abbreviated clearance process of the generic clearance allows program offices to gather a suitable pool of candidates within the varied time periods available for reviewer recruitment.

These forms submitted under this generic will be voluntary, low-burden and uncontroversial.

Respondents: Individuals who may apply to review materials for ACF.

Annual Burden Estimates

This request will extend approval of a subset of currently approved reviewer recruitment forms. Currently approved forms and related burden can be found here: https://www.reginfo.gov/public/do/PRAICList?ref_nbr=202303-0970-005.

Burden estimates for the next three years have been updated to reflect trends in use over the past three years. These are based on averages and actual individual requests will vary based on program office need.

Instrument | Number of respondents (total over request period) | Number of responses per respondent (total over request period) | Average burden per response (in hours) | Total burden (in hours)
Reviewer Recruitment Form | 3,000 | 1 | .5 | 1,500

Mary B. Jones,
ACF/OPRE Certifying Officer.

[FR Doc. 2023-08700 Filed 4-24-23; 8:45 am]

BILLING CODE 4184-79-P